DEPARTMENT OF EDUCATION

Intent to Compromise Claim Against the Commonwealth of Puerto Rico Department of Education

AGENCY: Department of Education.

ACTION: Notice of intent to compromise claim with request for comments.

SUMMARY: The United States Department of Education (Department) intends to compromise a claim against the Commonwealth of Puerto Rico Department of Education (PRDE) now pending before the Office of Administrative Law Judges (OALJ), Docket No. 97-52-R. Before compromising a claim, the Department must publish its intent to do so in the Federal Register and provide the public an opportunity to comment on that action (20 U.S.C. 1234a(j)).

DATES: We must receive your comments on the proposed action on or before August 19, 2002.

ADDRESSES: Comments should be addressed to Kay Rigling, Esq., Office of the General Counsel, U.S. Department of Education, 400 Maryland Avenue, SW., Room 6E312, Washington, DC 20202-2110.

FOR FURTHER INFORMATION CONTACT: Kay Rigling, Esq., Telephone 202-401-8292. If you use a telecommunications device for the deaf (TDD), you may call the Federal Information Relay Service (FIRS) at 1-800-877-8399.

Individuals with disabilities may obtain this document in an alternative format (e.g., Braille, large print, audiotape, or computer diskette) on request to the contact person listed under FOR FURTHER INFORMATION CONTACT.

SUPPLEMENTARY INFORMATION:

Invitation to Comment

We invite you to submit comments regarding this proposed action. During and after the comment period, you may inspect all public comments in room 6E312, FB-6, 400 Maryland Avenue, SW., Washington, DC, between the hours of 8:30 a.m. and 4 p.m., Eastern time, Monday through Friday of each week except Federal holidays.

Assistance to Individuals With Disabilities in Reviewing Comments

On request, we will supply an appropriate aid, such as a reader or print magnifier, to an individual with a disability who needs assistance to review the comments. If you want to schedule an appointment for this type of aid, please contact the person listed under FOR FURTHER INFORMATION CONTACT.

Background

The claim in question arose when the Department's Assistant Secretary for Elementary and Secondary Education (Assistant Secretary) issued a program determination letter (PDL) on March 26, 1997. The PDL demanded a refund of $1,846,718 of funds provided to the PRDE for school years 1991-92 and 1992-93 under Chapter 1 of Title I of the Elementary and Secondary Education Act of 1965 (20 U.S.C. 2701 et seq. (1988)). Specifically, the Assistant Secretary found that the PRDE had used Chapter 1 funds to assess the educational needs of all public and private school children in violation of statutory and regulatory requirements that permitted the use of those funds only for programs designed to meet the special educational needs of low-achieving children. Accordingly, the Assistant Secretary disallowed the percent of the total assessment contract costs for 1991-92 and 1992-93 attributable to non-Chapter 1 students.

The PRDE filed a timely appeal with the OALJ. In response to a motion for partial summary judgment filed by the PRDE, the OALJ held that $1,017,440 of the Assistant Secretary's claim was barred from recovery by the statute of limitations in 20 U.S.C. 1234a(k). As a result, $829,278, representing costs incurred in school year 1992-93, remains at issue. The Administrative Law Judge assigned to the appeal granted the parties' joint motion to stay proceedings pending settlement negotiations.

During settlement discussions, the PRDE submitted substantial documentation to demonstrate that additional assessment costs were allowable Chapter 1 costs. For example, the PRDE demonstrated that certain fixed costs for in-service workshops and the preparation of required reports were necessary to meet Chapter 1 requirements, irrespective of the number of students assessed. Moreover, the PRDE demonstrated that it had properly assessed additional students no longer receiving Chapter 1 services in order to meet certain Chapter 1 requirements. After conducting a thorough review of this documentation, the Assistant Secretary has decided to accept the PRDE's documentation and withdraw $414,733 from the remaining claim, thereby reducing the claim to $414,545.

The Department proposes to compromise this remaining claim to $214,545. Based on litigation risks and costs of proceeding through the administrative and, possibly, court process for this appeal, the Department has determined that it would not be practical or in the public interest to continue this proceeding. In addition, in light of subsequent changes in the Chapter 1/Title I assessment requirements that permit testing all students, there is little or no likelihood of a recurrence of this problem. As a result, under the authority in 20 U.S.C. 1234a(j), the Department has determined that compromise of this claim for $214,545 is appropriate.

The public is invited to comment on the Department's intent to compromise this claim. Additional information may be obtained by calling or writing to Kay Rigling, Esq. at the telephone number and address listed at the beginning of this notice.

Electronic Access to This Document

You may view this document, as well as all other Department of Education documents published in the Federal Register, in text or Adobe Portable Document Format (PDF) on the Internet at the following site: http://www.ed.gov/legislation/FedRegister.

To use PDF, you must have Adobe Acrobat Reader, which is available free at this site. If you have questions about using PDF, call the U.S. Government Printing Office (GPO), toll free, at 1-888-293-6498; or in the Washington, DC, area at 202-512-1530.

You may also view this document in text or PDF at the following site: http://www.ed.gov.

Note: The official version of this document is the document published in the Federal Register. Free Internet access to the official edition of the Federal Register and the Code of Federal Regulations is available on GPO Access at: http://www.access.gop.gov/nara/index.html.

Program Authority: 20 U.S.C. 1234a(j).

Dated: July 2, 2002.
Jack Martin,
Chief Financial Officer.

[FR Doc. 02-16958 Filed 7-5-02; 8:45 am]

BILLING CODE 4000-01-P